DEPARTMENT OF HOMELAND SECURITY

Federal Emergency Management Agency

[Docket ID FEMA-2012-0026]

Notice of Request for Comments on the Scope of Future Revisions to “Criteria for Preparation and Evaluation of Radiological Emergency Response Plans and Preparedness in Support of Nuclear Power Plants” (NUREG-0654/FEMA-REP-1, Rev. 1)

AGENCY: Federal Emergency Management Agency, DHS.

ACTION: Notice.

SUMMARY: The Federal Emergency Management Agency (FEMA) is soliciting comments from stakeholders and interested members of the public on the scope of future revisions to “Criteria for Preparation and Evaluation of Radiological Emergency Response Plans and Preparedness in Support of Nuclear Power Plants,” (NUREG-0654/FEMA-REP-1, Rev. 1). In association with this request for comments, FEMA and the Nuclear Regulatory Commission (NRC) held two public meetings on August 22, 2012 and September 13, 2012.

DATES: Written comments must be submitted to FEMA by January 31, 2013.

ADDRESSES: Submit your comments, identified by Docket ID No. FEMA-2012-0026, by one of the following methods:

Federal eRulemaking Portal: http://www.regulations.gov. Follow the instructions for submitting comments.

Mail/Hand Delivery/Courier: FEMA, Regulatory Affairs Division, Office of Chief Counsel, 500 C Street SW., Room 840, Washington, DC 20472-3100.

Instructions: Direct your comments to Docket ID No. FEMA-2012-0026. All submissions received must include the agency name and docket ID. Regardless of the method used for submitting comments or material, all submissions will be posted, without change, to the Federal e-Rulemaking Portal at http://www.regulations.gov, and will include any personal information you provide. Therefore, submitting this information makes it public. Please be aware that anyone is able to search the electronic form of all comments received into any of our dockets by the name of the individual who submitted the comment (or signed the comment, if submitted on behalf of an association, business, labor union, etc.). You may want to review the Federal Docket Management System of records notice published in the Federal Register on March 24, 2005 (70 FR 15086).

Do not submit comments that include trade secrets, confidential commercial or financial information to the public regulatory docket. Comments containing this type of information should be appropriately marked as containing such information and submitted by mail to the address specified in the ADDRESSES section of this notice. If FEMA receives a request to examine or copy this information, FEMA will treat it as any other request under the Freedom of Information Act (FOIA), 5 U.S.C. 552, and the Department of Homeland Security (DHS)'s FOIA regulation found in 6 Code of Federal Regulations (CFR) Part 5 and FEMA's regulations found in 44 CFR Part 5.

Docket: For access to the docket to read background documents or comments received, go to the Federal eRulemaking Portal at http://www.regulations.gov, click on “Advanced Search,” then enter “FEMA-2012-0026” in the “By Docket ID” box, then select “FEMA” under “By Agency,” and then click “Search.” Submitted comments may also be inspected at FEMA, Office of Chief Counsel, Room 835, 500 C Street SW., Washington, DC 20472.

FOR FURTHER INFORMATION CONTACT: Vanessa Quinn, Radiological Emergency Preparedness Branch Chief, Radiological Emergency Preparedness Branch, Technological Hazards Division, National Preparedness Directorate, Federal Emergency Management Agency; Phone Number: 703-605-1535.

SUPPLEMENTARY INFORMATION: FEMA, working with the Nuclear Regulatory Commission (NRC), is soliciting comments from stakeholders and interested members of the public on the scope of future revisions to “Criteria for Preparation and Evaluation of Radiological Emergency Response Plans and Preparedness in Support of Nuclear Power Plants,” NUREG-0654/FEMA-REP-1, Rev. 1. The document is available online at http://www.regulations.gov (Docket ID FEMA-2012-0026).

NUREG-0654/FEMA-REP-1, Rev.1 is a joint FEMA/NRC policy document that provides guidance on the sixteen Planning Standards referenced in FEMA's regulations at 44 CFR 350.5 and the NRC's regulations at 10 CFR part 50. Both agencies use these Planning Standards to evaluate the adequacy of the emergency plans of commercial nuclear power plant owners and operators (NRC), and the emergency plans and preparedness of State and local governments within the Emergency Planning Zones surrounding commercial nuclear power plants (FEMA).

Since the publication of NUREG-0654/FEMA-REP-1, Rev.1 in November 1980, four supplementary documents and one addendum have been issued that update and modify specific planning and procedural elements. These documents are available online at http://www.regulations.gov (Docket ID FEMA-2012-0026). FEMA and the NRC are considering revising NUREG-0654/FEMA-REP-1, Rev.1 to address stakeholder interest and the various emergency planning and preparedness lessons learned since its initial publication.

FEMA and the NRC held two public meetings on August 22, 2012 and September 13, 2012. (77 FR 46766, August 6, 2012). The purpose of these public meetings was to: (1) Solicit input from stakeholders and interested members of the public on the scope of future revisions to NUREG-0654/FEMA-REP-1, Rev.1; (2) describe the proposed timeline for the revisions to NUREG-0654/FEMA-REP-1, Rev.1; and (3) promote transparency, public participation, and collaboration during the NUREG-0654/FEMA-REP-1, Rev.1 revision process. All of the presentation material and meeting notes are available to review online at http://www.regulations.gov (Docket ID FEMA-2012-0026).

Through this Notice, we are soliciting comments from stakeholders and interested members of the public on the scope of future revisions to NUREG-0654/FEMA-REP-1, Rev.1. While not limited to these specific areas, we are soliciting comments on the following issues related to NUREG-0654/FEMA-REP-1, Rev.1 revision:

• Format and Terminology: various e-formats, clean-up edits, and web-based software.

• Policy and Legal Frameworks: National Response Frameworks, National Incident Management System (NIMS), emergency preparedness (EP) rulemaking issues, NRC Commission papers, lessons learned from the Fukushima-Daiichi nuclear power plant accident, and Presidential Policy Directive 8 (PPD-8).

• Engineering: evacuation time estimates (ETEs), Alert and Notification Systems (ANS), State-of-the-Art Reactor Consequence Analyses (SOARCA), Joint Information Centers (JICs), Joint Information Systems (JIS), messaging (including risk communication), social media, expanding emergency planning zones (EPZs).

• Health Physics: protective action recommendations (PARs), radiological laboratories, monitoring/decontamination, dose assessment, recovery/re-entry/return, portal monitors, potassium iodide (KI), and monitoring and decontamination of household pets.

• Operational: letters of agreement (LOAs), mobilization, memorandums of understandings (MOUs), staffing, authorities, protective action decisions (PADs).

• Training and Implementation: implementation timeline, deadlines, updating courses, credentialing.

• Assessments: exercises, plan reviews, inspections, call-in drills, report-in drills.

• Miscellaneous: additional items that are not defined in any of the specified category areas.

Dated: October 23, 2012.
Timothy W. Manning,
Deputy Administrator, Protection and National Preparedness, Federal Emergency Management Agency, Department of Homeland Security.

[FR Doc. 2012-26578 Filed 10-29-12; 8:45 am]

BILLING CODE 9110-21-P